DEPARTMENT OF HEALTH AND HUMAN SERVICES

Centers for Medicare & Medicaid Services

[Document Identifier CMS-10424 and CMS-10416]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: New collection; Title of Information Collection: Cooperative Agreement to Support Establishment of the Affordable Care Act's Health Insurance Exchanges; Use: All States (including the 50 States, consortia of States, and the District of Columbia, herein referred to as States) are eligible for the Cooperative Agreement to Support Establishment of the Affordable Care Act's Health Insurance Exchanges. Section 1311 of the Affordable Care Act provides for grants to States for the planning and establishment of these Exchanges. Given the innovative nature of Exchanges and the statutorily-prescribed relationship between the Secretary and States in their development and operation, it is critical that the Secretary work closely with States to provide necessary guidance and technical assistance to ensure that States can meet the prescribed timelines, federal requirements, and goals of the statute.

In order to provide appropriate and timely guidance and technical assistance, the Secretary must have access to timely, periodic information regarding State progress. Consequently, the information collection associated with these grants is essential to facilitating reasonable and appropriate federal monitoring of funds, providing statutorily-mandated assistance to States to implement Exchanges in accordance with Federal requirements, and to ensure that States have all necessary information required to proceed, such that retrospective corrective action can be minimized.

There are two levels of awards for States to apply for the Establishment grants. Level One grants are open to States that are participating in either the Federally-facilitated Exchange, including States that will be collaborating with the Federally-facilitated Exchange on certain activities, or developing a State-based Exchange. Level Two Establishment grants are open to States that are establishing a State-based Exchange. Level One Establishment grantees may apply for additional funding under Level Two Establishment grants once they have achieved the benchmarks identified in the Level Two Establishment review criteria.

HHS anticipates releasing this funding opportunity on June 15, 2012. There will be ten opportunities for applicants to apply for funding. HHS anticipates Level One Establishment and Level Two Establishment applications will be due: August 1, 2012; November 1, 2012; February 1, 2013; May 1, 2013; August 1, 2013; November 1, 2013; February 3, 2014; May 1, 2014; August 1, 2014; and November 3, 2014. The Period of Performance for Level One Establishment grants is up to one year after date of award. The Period of Performance for Level Two Establishment grants is up to three years after date of award. Form Number: CMS-10424 (OCN: 0938-NEW); Frequency: Annually; Affected Public: State, Local, or Tribal Governments; Number of Respondents: 51; Number of Responses: 331; Total Annual Hours: 50,158. (For policy questions regarding this collection contact Katherine Harkins at 301-492-4445. For all other issues call 410-786-1326.)

2. Type of Information Collection Request: New collection; Title of Information Collection: Blueprint for Approval of Affordable State-based and State Partnership Insurance Exchanges Use: All States (including the 50 States, the Territories, and the District of Columbia herein referred to as States) have the opportunity under Section 1311(b) of the Affordable Care Act to establish an Exchange no later than October 1, 2013 (Plan Year 2014).

Given the innovative nature of Exchanges and the statutorily-prescribed relationship between the Secretary and States in their development and operation, it is critical that the Secretary work closely with States to provide necessary guidance and technical assistance to ensure that States can meet the prescribed timelines, federal requirements, and goals of the statute.

States seeking to establish an Exchange must build an Exchange that meets the requirements set out in Section 1311(d) of the Affordable Care Act and 45 CFR 155.105. In order to ensure that a State seeking approval as a State Exchange or State Partnership Exchange in the Federally-facilitated Exchange meet all applicable requirements the Secretary will require a State to submit a Blueprint for approval during the Fall of 2012 and to demonstrate operational readiness through virtual or on-site readiness review. The Blueprint has two sections: The Blueprint Declaration Letter and the Blueprint Application. Submission of this Blueprint Declaration Letter will be online and on paper and submission of the Blueprint Application will be online. Form Number: CMS-10416 (OCN: 0938-New) Frequency: Once; Affected Public: State, Local, or Tribal governments; Number of Respondents: 56; Number of Responses: 56; Total Annual Hours: 11,816. (For policy questions regarding this collection, contact Sarah Summer 301-492-4443. For all other issues call (410) 786-1326.)

To obtain copies of the supporting statement and any related forms for the proposed paperwork collections referenced above, access CMS Web site address at http://www.cms.hhs.gov/PaperworkReductionActof1995, or Email your request, including your address, phone number, OMB number, and CMS document identifier, to Paperwork@cms.hhs.gov, or call the Reports Clearance Office on (410) 786-1326.

To be assured consideration, comments and recommendations for the proposed information collections must be received by the OMB desk officer at the address below, no later than 5 p.m. on June 18, 2012. OMB, Office of Information and Regulatory Affairs, Attention: CMS Desk Officer, Fax Number: (202) 395-6974, Email: OIRA_submission@omb.eop.gov.

Dated: May 15, 2012.
Martique Jones,
Director, Regulations Development Group, Division B, Office of Strategic Operations and Regulatory Affairs.

[FR Doc. 2012-12108 Filed 5-16-12; 11:15 am]

BILLING CODE 4120-01-P